DEPARTMENT OF LABOR

Occupational Safety and Health Administration

Maritime Advisory Committee for Occupational Safety and Health: Appointment of Members; Notice of Meeting

AGENCY: Occupational Safety and Health Administration (OSHA), Labor.

ACTION: Maritime Advisory Committee for Occupational Safety and Health: Appointment of members; Notice of meeting.

SUMMARY: The Maritime Advisory Committee for Occupational Safety and Health (MACOSH), which was established to advise the Secretary of Labor on issues relating to occupational safety and health programs, policies, and standards in the maritime industries in the United Sates, has been re-chartered. This Notice announces the selection of 15 persons to serve as members of the MACOSH Committee and schedules the first meeting of the re-chartered committee.

DATES: The Committee will meet:

—On July 19, 2000 from 9:30 A.M. until approximately 5 P.M.; and

—On July 20, 2000 from 8:30 A.M. until approximately 4 P.M.

ADDRESSES: The Committee will meet at the U.S. Merchant Marine Academy, 300 Steamboat Road, Kings Point, New York 11024; telephone: (516) 773-5000. Mail comments, views, or statements in response to this notice to Chappell Pierce, Acting Director, Officer of Maritime Standards, OSHA, U.S. Department of Labor, Room N-3609, 200 Constitution Avenue, NW, Washington, DC 20210. Telephone: (202) 693-2086; FAX; (202) 693-1663.

FOR FURTHER INFORMATION CONTACT: Chappell Pierce, Acting Director, Officer of Maritime Standards, OSHA; Phone (202) 693-2086.

SUPPLEMENTARY INFORMATION: All interested persons are invited to attend the public meetings of MACOSH at the time and place listed above. Individuals with disabilities wishing to attend should contact Theda Kenney at (202) 693-2222 no later than July 11, 2000, to obtain appropriate accommodations.

Background

MACOSH was established pursuant to the authority in Section 7 of the Occupational Safety and Health Act of 1970 to advise the Assistant Secretary of Labor for Occupational Safety and Health on issues relating to occupational safety and health for workers involved in shipbuilding, shipbreaking, ship repair, and longshoring in the maritime industries in the United States. Since its establishment in 1995, the committee, using its unique and collective expertise, has provided invaluable assistance and advice to the Assistant Secretary on maritime matters.

On January 24, 2000, OSHA announced its intention to renew the charter of MACOSH for another two-year term and requested nominations of interested persons to serve on the advisory committee (65 FR 3740). The Agency received the nominations of many highly qualified person. Unfortunately, the Occupational Safety and Health Act limits the number of members that can be on an advisory committee to 15. The following 15 persons were selected to represent the diverse interests of the maritime community on MACOSH.

Employee Representatives

Albert Cernadas, International Longshore Association (ILA)

Jeff Vigna, International Longshore Workers Union (ILWU)

Chico McGill, International Brotherhood of Electrical Workers (IBEW)

Mike Flynn, International Association of Machinists and Aerospace Workers (IAM)

Robert Scott, United Brotherhood of Carpenters

Edwin Lant, Federal Employees Metal Trades Council (Tidewater Virginia)

Employer Representatives

John McNeill, National Maritime Safety Association

Charles Thompson, American Association of Port Authorities

James Thornton, American Shipbuilding Association

Steve Morris, Shipbuilders Council of America

Iona Evans, U.S. Navy

Teresa Preston, Alabama Shipyard

Government Representatives

Laurence Reed, National Institute for Occupational Safety and Health (NIOSH)

Peter Schmidt, Washington State Department of labor and Industry

Lt. Emile Benard, U.S. Coast Guard

Meeting Agenda

This meeting will include discussion of the following subjects: goals and objectives for the next two years, the Maritime ergonomics project, OSHA Standards update, partnership and training initiatives (including OSHA's Electronic Compliance Assistance Tool), vertical tandem lifting of containers, and MACOSH workgroup reports.

Public Participation

Written data, views, or comments for consideration by MACOSH on the various agenda items listed above may be submitted, preferably with copies, to Chappell Pierce at the address listed above. Submissions received by July 5, 2000 will be provided to the members of the committee prior to the meeting. Requests to make an oral presentation to the Committee may be granted if time permits. Anyone wishing to make an oral presentation to the Committee may be granted if time permits. Anyone wishing to make an oral presentation to the Committee on any of the agenda items noted above should notify Chappell Pierce by July 5, 2000. The request should state the amount of time desired, the capacity in which the person will appear, and a brief outline of the content of the presentation.

Authority: This notice is issued under the authority of sections 6(b)(1) and 7(b) of the Occupational Safety and Health Act of 1970 (29 U.S.C. 655, 656), the Federal Advisory Committee Act (5 U.S.C. App. 2), and 29 CFR part 1912.

Signed at Washington, DC this 21st day of June 2000.
Charles N. Jeffress,
Assistant Secretary of Labor.

[FR Doc. 00-16823 Filed 6-28-00; 4:35 pm]

BILLING CODE 4510-26-M